DEPARTMENT OF COMMERCE

International Trade Administration

[A-570-814]

Carbon Steel Butt-Weld Pipe Fittings From the People's Republic of China: Rescission of the Antidumping Duty Administrative Review; 2017-2018

AGENCY: Enforcement and Compliance, International Trade Administration, Department of Commerce.

SUMMARY: The Department of Commerce (Commerce) is rescinding the administrative review of the antidumping duty order on carbon steel butt-weld pipe fittings (BWPF) from the People's Republic of China (China), based on withdrawal of the requests for review.

DATES: Applicable August 19, 2019.

FOR FURTHER INFORMATION CONTACT: Kabir Archuletta or Hannah Falvey, AD/CVD Operations, Office V, Enforcement and Compliance, International Trade Administration, U.S. Department of Commerce, 1401 Constitution Avenue NW, Washington, DC 20230; telephone (202) 482-2593 or (202) 482-4889, respectively.

SUPPLEMENTARY INFORMATION:

Background

On July 6, 1992, Commerce published in the Federal Register the antidumping duty order on BWPF from China.¹ On July 31, 2018, Commerce received separate requests to conduct an administrative review of the Order for Chinese producer/exporter Jinan Mech Piping Technology Co., Ltd. (Jinan Mech) on behalf of Jinan Mech ² and for Malaysian producer/exporter Pantech Steel Industries SDN BHD (Pantech) on behalf of Pantech and U.S. importers Silbo Industries, Inc. (Silbo) and Allied Group (Allied).³ Based upon these requests, on September 10, 2018, Commerce published in the Federal Register a notice of initiation of an administrative review covering the period of review (POR) July 1, 2017 through June 30, 2018 for Jinan Mech and Pantech.⁴

¹ See Antidumping Duty Order and Amendment to the Final Determination of Sales at Less Than Fair Value; Certain Carbon Steel Butt-Weld Pipe Fittings from the People's Republic of China, 57 FR 29702 (July 6, 1992) (Order).

² See Jinan Mech's Letter, “Administrative Review of the Antidumping Duty Order on Carbon Steel Butt-Weld Pipe Fittings from the People's Republic of China: Request for Review,” dated July 31, 2018.

³ See Pantech's Letter, “Carbon Steel Butt-Weld Pipe Fittings from the People's Republic of China, A-570-814: Review Request,” dated July 31, 2018; Silbo's Letter, “Request for Administrative Review of the Antidumping Duty Order on Carbon Steel Butt-Weld Pipe Fittings from the People's Republic of China (A-570-814),” dated July 31, 2018; and Allied's Letter, “Certain Carbon Steel Butt-Weld Pipe Fittings from China: Allied Group Request for Administrative Review,” dated July 31, 2018.

⁴ See Initiation of Antidumping and Countervailing Duty Administrative Reviews, 83 FR 45596, 45601-02 (September 10, 2018).

Pursuant to 19 CFR 351.213(d)(1), Commerce will rescind an administrative review, in whole or in part, if a party who requested the review withdraws the request within 90 days of the date of publication of notice of initiation of the requested review, and no other party requested a review of the company for which the petitioner requested a review. Section 351.213(d)(1) also provides that Commerce may extend this time limit if Commerce decides that it is reasonable to do so. The deadline for a party to withdraw a request for review was December 10, 2018.⁵

⁵ See 19 CFR 351.213(d)(1). If the new deadline falls on a non-business day, in accordance with Commerce's practice, the deadline will become the next business day.

On October 11, 2018, Jinan Mech timely withdrew its review request ⁶ and, on December 28, 2018, Commerce rescinded this administrative review in part, with respect to Jinan Mech.⁷ No party withdrew any pending review requests for Pantech by the December 10, 2018 deadline.

⁶ See Jinan Mech's Letter, “Administrative Review of the Antidumping Duty Order on Carbon Steel Butt-Weld Pipe Fittings from the People's Republic of China: Withdrawal of Request for Review,” dated October 11, 2018.

⁷ See Carbon Steel Butt-Weld Pipe Fittings from the People's Republic of China; Rescission of the Antidumping Duty Administrative Review, In Part; 2017-2018, 83 FR 67228 (December 28, 2018).

On July 2, 2019, Commerce received multiple requests to extend the time limit for Pantech, Silbo, and Allied to withdraw their requests for review of Pantech.⁸ In their letters, the parties explained that unique circumstances warranted an extension of the 90-day deadline under 19 CFR 351.213(d)(1). In particular, in the preliminary determination of the concurrent anti-circumvention inquiry on the Order, Commerce found that Pantech's BWFP exports from Malaysia were produced from finished or unfinished BWPF produced in China, and therefore subject to the Order.⁹ As a protective measure, Pantech, Silbo, and Allied requested an administrative review of the Order with respect to Pantech as a result of the anti-circumvention preliminary determination because they then faced suspended entries under the Order.¹⁰ However, in the final determination of the anti-circumvention inquiry published on June 21, 2019, Commerce found that Pantech was now eligible for the import certification program for BWPF from Malaysia, and that the suspended entries of BWPF from Malaysia that do not contain finished or unfinished BWPF from China will not be subject to the Order.¹¹ Any of Pantech's entries that do contain finished or unfinished BWPF from China are still subject to the Order.¹² Shortly after this determination was published, Silbo, Allied, and Pantech each requested that Commerce extend the deadline to withdraw a request for review. The parties explained that the sole reason for requesting a review—to preserve their ability for administrative review of Pantech's entries in light of the affirmative preliminary determination in the concurrent anti-circumvention inquiry—was no longer at issue.¹³

⁸ See Silbo's Letter, “Silbo's Request to Extend the Time Within Which to Withdraw Its Administrative Review Request and Withdrawal of the Administrative Review Request in the Administrative Review of the Antidumping Duty Order on Carbon Steel Butt-Weld Pipe Fittings from the People's Republic of China (A-570-814) (POR: 7/1/17-6/30/18),” dated July 2, 2019; see also Allied's Letter, “Carbon Steel Butt-Weld Pipe Fittings from the People's Republic of China: (1) Request to Extend the Time Within Which to Withdraw Administrative Review Request; and (2) Withdrawal of the Administrative Review Request,” dated July 2, 2019; and Pantech's Letter, “Carbon Steel Butt-Weld Pipe Fittings from the People's Republic of China, A-570-814: Withdrawal of Review Request and Request to Rescind Antidumping Duty Administrative Review,” dated July 2, 2019 (Pantech Review Request Withdrawal Letter).

⁹ See Carbon Steel Butt-Weld Pipe Fittings from the People's Republic of China: Preliminary Affirmative Determination of Circumvention of the Antidumping Duty Order, 83 FR 35205 (July 25, 2018).

¹⁰ See, e.g., Pantech Review Request Withdrawal Letter at 3.

¹¹ See Carbon Steel Butt-Weld Pipe Fittings from the People's Republic of China: Final Affirmative Determination of Circumvention of the Antidumping Duty Order, 84 FR 29164 (June 21, 2019).

¹² Id., 84 FR at 29165, “Continuation of Suspension of Liquidation.”

¹³ See, e.g., Pantech Review Request Withdrawal Letter at 3-4.

The parties additionally argued that, although Commerce had expended some resources in the conduct of this review, it had not yet issued the preliminary results of review. Further, the parties argued that rescission of the review at this time would still conserve substantial resources, particularly in a review which would require calculations of margins in a potentially unusual circumstance of a market economy company using an input from a non-market economy. Moreover, the parties explained that they are not withdrawing their request for a review in order to receive a more favorable rate. Indeed, by withdrawing at this stage, Pantech's entries that do contain finished or unfinished BWPF from China, if any, will be assessed at the China-wide rate of 182.90 percent.¹⁴

¹⁴ Id. at 5-6.

After reviewing the reasons outlined in the requests, Commerce determined that it was reasonable to extend the deadline for parties to withdraw a request for review to July 29, 2019, pursuant to 19 CFR 351.213(d)(1).¹⁵ On July 25, 2019, Silbo, Allied, and Pantech separately withdrew each of their requests for an administrative review of the Order.¹⁶ No other parties requested an administrative review of Pantech. Additionally, the petitioners have not raised any concerns regarding these withdrawal requests, nor submitted any further comments on the information that Pantech submitted to the record.

¹⁵ See Commerce's Letter to Silbo, “Antidumping Duty Administrative Review of Carbon Steel Butt-Weld Pipe Fittings from the People's Republic of China: Extension of Time Limit,” dated July 24, 2019 (Silbo—Extension of Time); Commerce's Letter to Allied, “Antidumping Duty Administrative Review of Carbon Steel Butt-Weld Pipe Fittings from the People's Republic of China: Extension of Time Limit,” dated July 24, 2019 (Allied—Extension of Time), see also Commerce's Letter to Pantech, “Antidumping Duty Administrative Review of Carbon Steel Butt-Weld Pipe Fittings from the People's Republic of China: Extension of Time Limit,” dated July 24, 2019 (Pantech—Extension of Time).

¹⁶ See Silbo's Letter, “Silbo's Withdrawal of Its Administrative Review Request in the Administrative Review of the Antidumping Order on Carbon Steel Butt-Weld Pipe Fittings from the People's Republic of China (A-570-814) (POR: 7/1/17-6/30/18),” dated July 25, 2019 (Silbo's Withdrawal Request); see also Allied's Letter “Carbon Steel Butt-Weld Pipe Fittings from the People's Republic of China: Withdrawal of Review Request,” dated July 25, 2019 (Allied's Withdrawal Request); Pantech's Letter, “Carbon Steel Butt-Weld Pipe Fittings from the People's Republic of China, A-570-814: Withdrawal of Review Request,” dated July 25, 2019 (Pantech's Withdrawal Request).

Rescission of Review

As discussed above, pursuant to 19 CFR 351.213(d)(1), Commerce considered the interested parties' requests to extend the deadline to withdraw their requests for a review of Pantech, and, based on the reasons provided by the parties and the circumstances presented, determined that it was reasonable to extend the deadline.¹⁷ Once the extension was granted, each interested party separately withdrew their review requests for Pantech and requested a rescission of administrative review of the Order.¹⁸ There are no remaining requests for an administrative review of the Order. Accordingly, Commerce is rescinding this review of the Order for the POR in accordance with 19 CFR 351.213(d)(1).

¹⁷ See Silbo—Extension of Time; Allied—Extension of Time; and Pantech—Extension of Time.

¹⁸ See Silbo's Withdrawal Request; Allied's Withdrawal Request; and Pantech's Withdrawal Request.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order (APO)

This notice also serves as a reminder to parties subject to APO of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with section 751(a)(1) and 777(i)(1) of the Tariff Act of 1930, as amended, and 19 CFR 351.213(d)(4).

Dated: August 14, 2019.
James Maeder,
Deputy Assistant Secretary for Antidumping and Countervailing Duty Operations.

[FR Doc. 2019-17772 Filed 8-16-19; 8:45 am]

BILLING CODE 3510-DS-P